DEPARTMENT OF AGRICULTURE

Natural Resources Conservation Service

[Docket ID: NRCS-2019-0014]

Johns Creek Watershed Dam No. 1, Craig County, Virginia

AGENCY: Natural Resources Conservation Service (NRCS), USDA.

ACTION: Notice of a finding of no significant impact.

SUMMARY: NRCS gives notice that an environmental impact statement is not being prepared for the rehabilitation of Johns Creek Watershed Dam No. 1, Craig County, Virginia and Finding of No Significant Impact.

FOR FURTHER INFORMATION CONTACT: John A. Bricker, Virginia State Conservationist, Natural Resources Conservation Service, 1606 Santa Rosa Road, Suite 209, Richmond, Virginia 23229. Telephone: (804) 287-1691 or email: Jack.Bricker@va.usda.gov.

SUPPLEMENTARY INFORMATION: Pursuant to Section 102(2)(c) of the National Environmental Policy Act of 1969, the Council on Environmental Quality Regulations (40 CFR part 1500) and NRCS Regulations (7 CFR part 650), the Notice of a Finding of No Significant Impact (FONSI) has been forwarded to the various Federal, State, and local agencies and interested parties. The environmental assessment of this federally assisted action indicates that the project will not cause significant local, regional, or national impacts on the environment. As a result of these findings, NRCS State Conservationist, has determined that the preparation and review of an environmental impact statement is not needed for this project.

The project purpose is continued flood prevention. The planned works of improvement include upgrading an existing floodwater retarding structure. A limited number of the FONSI and basic data developed during the environmental assessment may be obtained from John Bricker at the above telephone number.

No administrative action on implementation of the proposal will be taken until 30 days after the date of this publication in the Federal Register.

Catalog of Federal Domestic Assistance: Catalog of Federal Domestic Assistance Program No. 10.904, Watershed Protection and Flood Prevention. Executive Order 12372 regarding State and local clearinghouse review of Federal and federally assisted programs and project is applicable.

John A. Bricker,
Virginia State Conservationist, Natural Resources Conservation Services.

[FR Doc. 2019-23795 Filed 10-30-19; 8:45 am]

BILLING CODE 3410-16-P